DEPARTMENT OF THE INTERIOR

National Park Service

[NPS-WASO-NAGPRA-22297; PPWOCRADN0-PCU00RP14.R50000]

Notice of Inventory Completion: Gettysburg Foundation, Gettysburg, PA

AGENCY: National Park Service, Interior.

ACTION: Notice.

SUMMARY: The Gettysburg Foundation has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the Gettysburg Foundation. If no additional requestors come forward, transfer of control of the human remains Indian tribes or Native Hawaiian organizations stated in this notice may proceed.

DATES: Representatives of any Indian tribe or Native Hawaiian organization not identified in this notice that wish to request transfer of control of these human remains should submit a written request with information in support of the request to the Gettysburg Foundation at the address in this notice by December 9, 2016.

ADDRESSES: Daniel Bringman, Gettysburg Foundation, 1195 Baltimore Pike, Gettysburg, PA 17325, telephone (717) 339-2116, email dbringman@gettysburgfoundation.org.

SUPPLEMENTARY INFORMATION: Notice is here given in accordance with the Native American Graves Protection and Repatriation Act (NAGPRA), 25 U.S.C. 3003, of the completion of an inventory of human remains under the control of the Gettysburg Foundation, Gettysburg, PA. The human remains were reportedly removed by a private citizen from the Josiah Benner Farm, PA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the professional staff at the Gettysburg Foundation with representatives of the Hopi Tribe of Arizona; Jicarilla Apache Nation, New Mexico; Kewa Pueblo, New Mexico (previously listed as the Pueblo of Santo Domingo); Mescalero Apache Tribe of the Mescalero Reservation, New Mexico; Navajo Nation, Arizona, New Mexico & Utah; Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Southern Ute Indian Tribe of the Southern Ute Reservation, Colorado; Ute Indian Tribe of the Uintah & Ouray Reservation, Utah; Ute Mountain Ute Tribe (previously listed as the Ute Mountain Reservation, Colorado, New Mexico & Utah; Ysleta del Sur Pueblo (previously listed as the Ysleta Del Sur Pueblo of Texas); and Zuni Tribe of the Zuni Reservation, New Mexico.

Hereafter, all tribes listed in this section are referred to as “The Consulted Tribes.”

History and Description of the Remains

At an unknown date, human remains representing, a minimum, 1 individual were removed from an unknown location. In June 2014, an auction was posted that contained a human cranium, reportedly recovered by a private citizen from the Josiah Benner Farm, PA. The auction included a photograph, some battlefield objects, and an accompanying description that attributed the human remains and Civil War Era objects to the Battle of Gettysburg in 1863. The Josiah Benner Farm served as a field hospital during and immediately following the Battle of Gettysburg from July 1 to July 4, 1863.

Due to the public outcry and threat of a riot, the auction was cancelled. The human cranium and Civil War objects were donated to the Gettysburg Foundation. At the request of the Gettysburg Foundation, the human cranium was sent to the Smithsonian Institution's National Museum of Natural History for analysis. Forensic analysis of the cranium was used to determine whether the human cranium represented the remains of a Civil War soldier.

Forensic analysis indicates that the human cranium likely is the remains of a male, aged 22 to 25 years, whose ancestry is Native American and most closely associated with Indian tribes of the southwestern United States based on craniometrics measurements.

Stable isotope analysis and a radiocarbon sample were extracted from a fragmented left maxillary third molar. Stable isotope analysis indicates a diet largely comprised of C4 plants, likely maize, with moderate to low levels of meat protein. The AMS radiocarbon dating yielded results of 700 BP + 20 years. Calibrated date ranges are calculated to Cal AD 1269-1299 (94.53%) and Cal AD 1370-1379 (5.47%), respectively. The Civil War Era objects in the auction with the human cranium are not associated funerary objects.

Pursuant to 43 CFR 10.16, the Secretary of the Interior may make a recommendation for a transfer of control of culturally unidentifiable Native American human remains. In July 2016, the Gettysburg Foundation requested that the Secretary, through the Native American Graves Protection and Repatriation Review Committee, recommend the proposed transfer of control of the culturally unidentifiable Native American human remains in this notice to the Pueblo of San Felipe, New Mexico. The Review Committee, acting pursuant to its responsibility under 25 U.S.C. 3006(c)(5), considered the request at its September 2016 meeting and recommended to the Secretary that the proposed transfer of control proceed. An October 20, 2016 letter on behalf of the Secretary of Interior from the National Park Service Associate Director, Cultural Resources, Partnerships, and Science transmitted the Secretary's independent review and concurrence with the Review Committee that:

• The Gettysburg Foundation consulted with the appropriate Indian tribes or Native Hawaiian organizations,

• none of The Consulted Tribes objected to the proposed transfer of control, and

• the Gettysburg Foundation may proceed with the agreed upon transfer of control of the culturally unidentifiable human remains to the Pueblo of San Felipe, New Mexico.

Transfer of control is contingent on the publication of a Notice of Inventory Completion in the Federal Register. This notice fulfills that requirement.

Determinations Made by the Gettysburg Foundation

Officials of the Gettysburg Foundation have determined that:

• Pursuant to 25 U.S.C. 3001(9), the human remains described in this notice are Native American based on the forensic analysis.

• Pursuant to 25 U.S.C. 3001(9), the human remains described in this notice represent the physical remains of one individual of Native American ancestry.

• Pursuant to 25 U.S.C. 3001(2), a relationship of shared group identity cannot be reasonably traced between the Native American human and any present-day Indian tribe.

• Pursuant to 43 CFR 10.16, the disposition of the human remains will be to the Pueblo of San Felipe, New Mexico.

Additional Requestors and Disposition

Representatives of any Indian tribe or Native Hawaiian organization not identified in this notice that wish to request transfer of control of these human remains should submit a written request with information in support of the request to Daniel Bringman, Gettysburg Foundation, 1195 Baltimore Pike, Gettysburg, PA 17325, phone 717-339-2116, email dbringman@gettysburgfoundation.org by December 9, 2016. After that date, if no additional requestors have come forward, transfer of control of the human remains to the Pueblo of San Felipe, New Mexico may proceed.

The Gettysburg Foundation is responsible for notifying The Consulted Tribes that this notice has been published.

Dated: October 31, 2016.
Melanie O'Brien,
Manager, National NAGPRA Program.

[FR Doc. 2016-26979 Filed 11-8-16; 8:45 am]

BILLING CODE 4312-52-P